DEPARTMENT OF HEALTH AND HUMAN SERVICES

National Institutes of Health

Notice of Meeting: Chronic Fatigue Syndrome Coordinating Committee

In accordance with section 10(a) of the Federal Advisory Committee Act, as amended (5 U.S.C., Appendix 2), notice is hereby given of a meeting of the Chronic Fatigue Syndrome Coordinating Committee.

Name: Chronic Fatigue Syndrome Coordinating Committee (CFSCC).

Time and Date: Tuesday, January 30, 2001, from 9 a.m. to 5 p.m.

Place: WestCoast Grant Hotel Seattle, 1415 Fifth Avenue, Seattle, WA 98101.

Status: Open to the public, limited only by the space available. The meeting room will accommodate approximately 100 people. Individuals who plan to attend and need special assistance, such as sign language interpretation or other reasonable accommodations, should notify the Contact Person listed below in advance of the meeting.

Purpose: The Committee is charged with providing advice to the Secretary, the Assistant Secretary for Health, and the Commissioner, Social Security Administration (SSA), to assure interagency coordination and communication regarding chronic fatigue syndrome (CFS) research and other related issues; facilitating increased DHHS and agency awareness of CFS research and educational needs; developing complementary research programs that minimize overlap; identifying opportunities for collaborative and/or coordinated efforts in research and education; and developing informed responses to constituency groups regarding DHHS and SSA efforts and progress.

Matters to be Discussed: The meeting will include disability issues and CFS as a primary focus, with a presentation by representatives from the Northwest Disability and Business Technical Assistance Center at the Washington State Governor's Committee on Disability Issues and Employment. Other matters to be discussed will include; progress reports from the Name Change Working Group and other working groups of the CFSCC; update on current Federal activities; and identification of areas for future focus for the CFSCC. Public comments will be received at the meeting from no more than 6 individuals on the designated topic of disability and CFS, specifically, obstacles in the process of applying for disability benefits; obstacles faced in the workplace by those disabled with CFS; and employment issues and reasonable accommodation in the workplace. Priority will be given to members of the public from the region (Western United States) who have never had the opportunity to provide formal public comments at meetings of the CFSCC since its inception in May 1997. Persons wishing to make oral comments on the topic above should notify the contact person listed below no later than COB on January 12, 2001. Five minutes will be allotted for each statement; both printed and electronic copies are requested for the record. Individuals designated to present comments will be notified no later than January 16, 2001.

Contact Person for More Information: Janice C. Ramsden, Executive Secretary, CFSCC, Office of the Principal Deputy Director, NIH, Building 1, Room 333, 1 Center Drive MSC 0159, Bethesda, Maryland 20892-0159, e-mail jr52h@nih.gov or telephone 301-496-0959.

Dated: December 14, 2000.
LaVerne Stringfield,
Director, Office of Federal Advisory Committee Policy.

[FR Doc. 00-32594 Filed 12-20-00; 8:45 am]

BILLING CODE 4140-01-M